NUCLEAR REGULATORY COMMISSION

[NRC-2019-0181]

Standard Format and Content for Applications To Renew Nuclear Power Plant Operating Licenses

AGENCY: Nuclear Regulatory Commission.

ACTION: Draft regulatory guide; request for comment.

SUMMARY: The U.S. Nuclear Regulatory Commission (NRC) is issuing for public comment a draft regulatory guide (DG), DG-1341, “Standard Format and Content for Applications to Renew Nuclear Power Plant Operating Licenses.” This regulatory guide (RG) describes the standard format and content that the NRC staff considers acceptable for applications for renewal and subsequent renewal of operating licenses for commercial nuclear power plants.

DATES: Submit comments by October 17, 2019. Comments received after this date will be considered if it is practical to do so, but the NRC is able to ensure consideration only for comments received on or before this date. This public review and comment period is 30 days in duration, although the public review and comment period for draft RGs is usually 60 days. The shortened comment period is provided because the NRC has previously interacted with stakeholders on related industry and NRC guidance, and consequently does not anticipate significant public comment. Although a time limit is given, comments and suggestions in connection with items for inclusion in guides currently being developed or improvements in all published guides are encouraged at any time.

ADDRESSES: You may submit comments by any of the following methods:

• Federal Rulemaking Website: Go to https://www.regulations.gov and search for Docket ID NRC-2019-0181. Address questions about NRC docket IDs to Jennifer Borges; telephone: 301-287-9221; email: Jennifer.Borges@nrc.gov. For technical questions, contact the individuals listed in the FOR FURTHER INFORMATION CONTACT section of this document.

• Mail comments to: Office of Administration, Mail Stop: TWFN-7-A60M, U.S. Nuclear Regulatory Commission, Washington, DC 20555-0001. ATTN: Program Management, Announcements and Editing Staff.

For additional direction on obtaining information and submitting comments, see “Obtaining Information and Submitting Comments” in the SUPPLEMENTARY INFORMATION section of this document.

FOR FURTHER INFORMATION CONTACT: Bennett Brady, Office of Nuclear Reactor Regulation, telephone: 301-415-2981, email: Bennett.Brady@nrc.gov, Amy Hull, Office of Nuclear Regulatory Research, telephone: 301-415-2435, email: Amy.Hull@nrc.gov, and Michael Eudy, Office of Nuclear Regulatory Research, telephone: 301-415-3104, email: Michael.Eudy@nrc.gov. All are staff of the U.S. Nuclear Regulatory Commission, Washington, DC 20555-0001.

SUPPLEMENTARY INFORMATION:

I. Obtaining Information and Submitting Comments

A. Obtaining Information

Please refer to Docket ID NRC-2019-0181 when contacting the NRC about the availability of information regarding this document. You may obtain publicly-available information related to this action by any of the following methods:

• Federal Rulemaking Website: Go to https://www.regulations.gov and search for Docket ID NRC-2019-0181.

• NRC's Agencywide Documents Access and Management System (ADAMS): You may access publicly available documents online in the NRC Library at https://www.nrc.gov/reading-rm/adams.html. To begin the search, select “Begin Web-based ADAMS Search.” For problems with ADAMS, please contact the NRC's Public Document Room (PDR) reference staff at 1-800-397-4209, 301-415-4737, or by email to pdr.resource@nrc.gov. DG-1341 is available in ADAMS under Accession No. ML19213A345.

• NRC's PDR: You may examine and purchase copies of public documents at the NRC's PDR, Room O1-F21, One White Flint North, 11555 Rockville Pike, Rockville, Maryland 20852.

B. Submitting Comments

Please include Docket ID NRC-2019-0181 in your comment submission.

The NRC cautions you not to include identifying or contact information in comment submissions that you do not want to be publicly disclosed. The NRC posts all comment submissions at https://www.regulations.gov and also enters the comment submissions into ADAMS. The NRC does not routinely edit comment submissions to remove identifying or contact information.

If you are requesting or aggregating comments from other persons for submission to the NRC, then you should inform those persons not to include identifying or contact information in their comment submissions that they do not want to be publicly disclosed. Your request should state that the NRC will not edit comment submissions to remove such information before making the comment submissions available to the public or entering the comment submissions into ADAMS.

II. Additional Information

The NRC is issuing for public comment a draft guide in the NRC's “Regulatory Guide” series. This series was developed to describe and make available to the public information such as methods that are acceptable to the NRC staff for implementing specific parts of the NRC's regulations, techniques that the staff uses in evaluating specific problems or postulated events, and data that the staff needs in its review of applications for permits and licenses.

The DG, entitled, “Standard Format and Content for Applications to Renew Nuclear Power Plant Operating Licenses,” is temporarily identified by its task number, DG-1341. DG-1341 is proposed revision 2 of Regulatory Guide 1.188. This revision of the guide broadens the scope of the guide to include subsequent license renewal. The guide endorses two industry guidance documents that describe methods that the staff of the NRC considers acceptable for use in preparing applications for license renewal and subsequent license renewal.

Specifically, this revision endorses Nuclear Energy Institute (NEI) 17-01, “Industry Guideline for Implementing the Requirements of 10 CFR part 54 for Subsequent License Renewal” (ADAMS Accession No. ML17339A599), which provides an acceptable approach for implementing the requirements of title 10 of the Code of Federal Regulations (10 CFR) part 54, “Requirements for Renewal of Operating Licenses for Nuclear Power Plants,” for subsequent license renewal. The guidance in NEI 17-01 is consistent with previously published NRC guidance. In particular, NUREG-2191, Volumes 1 and 2, “Generic Aging Lessons Learned for Subsequent License Renewal (GALL-SLR) Report,” and NUREG-2192, “Standard Review Plan for Review of Subsequent License Renewal Applications for Nuclear Power Plants—Final Report,” both underwent significant public interaction and extensive review by the Advisory Committee on Reactor Safeguards.

The guide applies to holders of operating licenses under 10 CFR part 50, “Domestic Licensing of Production and Utilization Facilities.” The guide could also apply to holders of combined licenses under 10 CFR part 52, “Licenses, Certifications, and Approvals for Nuclear Power Plants.” However, because no combined license holder is expected to use this guide for at least two decades, the NRC is not expanding the guide's applicability to combined license holders at this time.

III. Backfitting

DG-1341 describes one acceptable method for demonstrating compliance with 10 CFR part 54 for applicants for nuclear power plant license renewal and subsequent license renewal. This DG, if finalized, would not constitute backfitting as defined in 10 CFR 50.109, “Backfitting” (the Backfit Rule). Existing licensees and applicants for license renewal or subsequent license renewal will not be required to comply with the positions set forth in this DG. Further information on the staff's use of the DG, if finalized, is contained in the DG under Section D., “Implementation.”

Applicants and potential applicants are not, with certain exceptions not applicable for this guide, protected by the Backfit Rule. The Backfit Rule—with certain exclusions discussed below—was not intended to apply to every NRC action that substantially changes the expectations of current and future applicants. Therefore, the positions in any RG, if imposed on applicants, would not represent backfitting (except as discussed below).

The exceptions to the general principle that applicants and potential applicants are not protected by the Backfit Rule are applicable whenever a 10 CFR part 50 operating license applicant references a construction permit. The staff does not, at this time, intend to impose the positions represented in DG-1341 in a manner that is inconsistent with the Backfit Rule. If, in the future, the staff seeks to impose a position in this RG in a manner that constitutes backfitting under the Backfit Rule, then the staff will address the backfitting provisions in the Backfit Rule.

Dated at Rockville, Maryland, this 11th day of September, 2019.
For the Nuclear Regulatory Commission.
Thomas H. Boyce,
Chief, Regulatory Guidance and Generic Issues Branch, Division of Engineering, Office of Nuclear Regulatory Research.

[FR Doc. 2019-20005 Filed 9-16-19; 8:45 am]

BILLING CODE 7590-01-P